DEPARTMENT OF DEFENSE

Office of the Secretary

Proposed Collection; Comment Request

AGENCY: Office of the Under Secretary of Defense (Personnel and Readiness, DOD).

ACTION: Notice.

In compliance with Section 3506(c)(2)(A) of the Paperwork Reduction Act of 1995, The Office of the Under Secretary of Defense (Personnel and Readiness) announces the following proposed reinstatement of a public information collection and seeks public comment on the provision thereof. Comments are invited on: (a) Whether the collection of information is necessary for the proper performance of the function of the Agency, including whether the information shall have practical utility: (b) the accuracy of the agency's estimate of the burden of the proposed information collection; (c) ways to enhance the quality, utility, and clarity of the information to be collected; and (d) ways to minimize the burden of the information collection on respondents, including through the use of automated collection techniques or other forms of information technology.

DATES: Consideration will be given to all comments received before June 5, 2000.

ADDRESSES: Written comments and recommendation on the proposed information collection should be sent to the Office of the Under Secretary of Defense (Personnel and Readiness), (Force Management Policy/Military Personnel Policy/Accession Policy) ATTN: Lieutenant Colonel Michael R. Ostroski, 4000 Defense Pentagon, Washington, DC 20301-4000.

FOR FURTHER INFORMATION CONTACT: To request additional information on this proposed information collection or to obtain a copy of the proposal and associated collection instruments, please write to the above address or call (703) 695-5529.

Title, Associated Form, and OMB Control Number: Record of Military Processing, Armed Forces of the United States, DD Form 1966, OMB Control Number: 0704-0173.

Needs and Uses: This information collection is to obtain data on individuals applying for enlistment in the Armed Forces of the United States to determine eligibility for enlistment. The information collected accompanies the applicant throughout the enlistment process. It also is used for establishing personnel records on those who enlist.

Affected Public: Individuals or households.

Annual Burden Hours: 170,000.

Number of Respondents: 510,000.

Responses Per Respondent: 1.

Average Burden Per Response: 20 minutes.

Frequency: On occasion.

SUPPLEMENTARY INFORMATION:

Summary of Information Collection

Title 10 U.S.C., Sections 504, 505, 508, 12102 and 520a, Title 14 U.S.C., Sections 351 and 632, and Title 50 U.S.C., Section 451, requires applicants to meet standards for enlistment into the Armed Forces. This information collection is the basis for determining eligibility of applicants for enlistment in the Armed Forces and is needed to verify data given by the applicant and to determin his/her qualification of enlistment. The information collected aids in the determination of qualifications, term of service, and grade in which a person, if eligible, will enter active duty or reserve status.

Dated: March 29, 2000.
L.M. Bynum,
Alternate OSD Federal Register Liaison Officer, Department of Defense.

[FR Doc. 00-8179 Filed 4-3-00; 8:45 am]

BILLING CODE 5001-10-M